DEPARTMENT OF COMMERCE

National Oceanic and Atmospheric Administration

[RTID 0648-XB609]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Northeast Fisheries Science Center has requested a change to a previously issued exempted fishing permit which would result in new regulatory exemptions for participating vessels. The Assistant Regional Administrator for Sustainable Fisheries, Greater Atlantic Region, NMFS, has determined that this request is outside the scope of the initially approved exempted fishing permit. As a result, regulations under the Magnuson-Stevens Fishery Conservation and Management Act require publication of this notification to provide interested parties the opportunity to comment on the proposed changes to the exempted fishing permit previously issued to the Northeast Fisheries Science Center.

DATES: Comments must be received on or before December 30, 2021.

ADDRESSES: You may submit written comments by the following method:

• Email: nmfs.gar.efp@noaa.gov. Include in the subject line “Modification to Center Study Fleet EFP.”

FOR FURTHER INFORMATION CONTACT: Spencer Talmage, Fishery Policy Analyst, 978-281-9232.

SUPPLEMENTARY INFORMATION: On May 6, 2021, NMFS issued an exempted fishing permit (EFP) to the Northeast Fisheries Science Center (Center) in support of the 2021 Study Fleet Program. The Study Fleet Program was established in 2002 to more fully characterize commercial fishing operations and provide sampling opportunities to augment NMFS's data collection programs. As part of the program, the Center contracts commercial fishing vessels to collect biological data and fish specimens for the Center to use in research relevant to stock assessments and fish biology. The Center's Study Fleet Program trains participating captains and crew to conduct at-sea sampling consistent with Center sampling protocols for survey and observer programs. During EFP trips, crew sort, weigh, measure, and collect biological data from fish prior to discarding.

The EFP currently exempts 20 commerical fishing vessels from minimum fish sizes and possession limits for species of interest, as shown in Table 1.

Table 1—Regulatory Exemptions Originally Issued for the 2021 Study Fleet EFP
Exempted regulations in 50 CFR part 648 | Minimum fish sizes: § 648.83 Northeast multispecies minimum fish sizes for haddock, yellowtail flounder, winter flounder, and American plaice.
| Possession restrictions: § 648.86(a) Haddock, § 648.86(d) Small-mesh multispecies, § 648.86(g) Yellowtail flounder, § 648.86(o) Possession limits implemented by the Regional Administrator.

On November 4, 2021, the NESFC requested a modification to the EFP which would add an exemption to § 648.86(l), which prohibits the possession of ocean pout, windowpane flounder, and Atlantic wolffish. The modification would allow six of the participating vessels to retain and land Atlantic wolffish when directed by the Center. Ocean pout and windowpane flounder are not target species for this EFP, but their possession is prohibited by the same regulation which prohibits the possession of Atlantic wolffish. As a result, an exemption from the regulation which prohibits possession of Atlantic wolffish would also act as an exemption from the possession prohibition for ocean pout and windowpane flounder. To prevent vessels from harvesting ocean pout or windowpane flounder, the terms and conditions of the EFP would prohibit participating vessels from retaining and landing ocean pout and windowpane flounder.

Participating vessels would not be allowed to collect more than 10 fish total, or an amount over 70 lb (31.75 kg) total, whichever is reached first. In order to ensure that landed fish do not exceed the collection needs of the Study Fleet Program, the Center would issue a formal biological sampling request prior to landing. The captain or crew would deliver landed fish to Center staff or local NMFS Port Agents upon landing.

The Center requested this modification in order to support new research focusing on the osteology and ontogeny of wolffish species, which requires biological samples of Atlantic wolffish. The study would contribute fundamental data on the morphology of fish in the wolffish family, which would provide a necessary baseline for phylogenetic analysis and future morphological research.

This modification would not alter any other aspect of the EFP, including the remaining exemptions, remaining conditions and requirements, and study period. They do not change the impact of the EFP from what was previously issued.

The applicant may request further minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: December 9, 2021.
Ngagne Jafnar Gueye,
Acting Director, Office of Sustainable Fisheries, National Marine Fisheries Service.

[FR Doc. 2021-27102 Filed 12-14-21; 8:45 am]

BILLING CODE 3510-22-P